POSTAL SERVICE

Changes in Domestic Rates and Fees

AGENCY: Postal Service.

ACTION: Notice of implementation of changes to domestic rates, fees, and classifications.

SUMMARY: This notice sets forth the changes to domestic rates, fees, and classifications to be implemented as a result of the decision of the Board of Governors (Governors) of the United States Postal Service® on the Opinion and Recommended Decision of the Postal Regulatory Commission on Changes in Postal Rates and Fees, Docket No. R2006-1 (March 19, 2007), and the decision of the Governors of the United States Postal Service on the Opinion and Recommended Decision on Reconsideration of the Postal Regulatory Commission on Changes in Postal Rates and Fees, Docket No. R2006-1 (May 1, 2007).

EFFECTIVE DATES: May 14, 2007, except that the rates and classification changes for Periodicals became effective on July 15, 2007.

FOR FURTHER INFORMATION CONTACT: Daniel J. Foucheaux, Jr., 202-268-2989.

SUPPLEMENTARY INFORMATION: On May 3, 2006, pursuant to its authority under the former provisions of 39 U.S.C. 3621, et seq., the Postal Service filed with the Postal Regulatory Commission (PRC), formerly the Postal Rate Commission, a Request for a Recommended Decision on Changes in Rates of Postage and Fees for Postal Services (Request). The PRC designated the filing as Docket No. R2006-1. On February 26, 2007, pursuant to its authority under the former provisions of 39 U.S.C. 3624, the PRC issued its Opinion and Recommended Decision on the Postal Service's Request to the Governors of the Postal Service.

Pursuant to the former provisions of 39 U.S.C. 3625, on March 19, 2007, the Governors of the United States Postal Service allowed the PRC's recommended decision under protest, and returned three matters to the PRC for reconsideration. Decision of the Governors of the United States Postal Service on the Opinion and Recommended Decision of the Postal Regulatory Commission on Changes in Postal Rates and Fees, Docket No. R2006-1 (March 19, 2007). The three matters returned to the PRC for reconsideration pertained to rates recommended for Standard Mail® flats, the Nonmachinable Surcharge for First-Class Mail® letters, and the Priority Mail Flat Rate Box. In addition, the Board of Governors ordered that the implementation of the Periodicals changes be made effective on July 15, 2007, because of the complexity of the new Periodicals rate structure.

On April 27, the Commission issued its Opinion and Recommended Decision on Reconsideration with respect to the Nonmachinable Surcharge for First-Class Mail letters, and the rate for the Priority Mail Flat Rate Box. On May 1, 2007, the Governors approved the recommended changes. The rate, fee, and classification changes ordered into effect by the Governors are reprinted below.

In accordance with the Decision of the Governors and Resolution No. 07-3 of the Board of Governors, the Postal Service hereby gives notice that the rate, fee, and classification changes set forth below became effective at 12:01 a.m. on May 14, 2007, except that the rate and classification changes for Periodicals became effective on July 15, 2007 at 12:01 a.m.¹ Implementing regulations for the rate, fee, and classification changes were published in the Federal Register at 72 FR 15365 (March 30, 2007). Implementing regulations for the rate and classification changes for Periodicals were published in the Federal Register at 72 FR 29256 (May 25, 2007).

¹ The rate and fee changes for the remaining item approved but returned for reconsideration—Standard Mail flats—will also become effective at 12:01 a.m. on May 14, 2007.

Neva R. Watson,
Attorney, Legislative.

BILLING CODE 7710-12-P

[FR Doc. 07-3755 Filed 8-3-07; 8:45 am]

BILLING CODE 7710-12-C